AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act of 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before June 9, 2003.

For Further Information Contact: Beverly Johnson, Bureau for Management, Office of Administrataive Services, Information and Records Division, U.S. Agency for International Development, Room 2.07-106, RRB, Washington, DC 20523, (202) 712-1365 or via e-mail bjohnson@usaid.gov.

SUPPLEMENTARY INFORMATION: OMB No.: OMB 0412-.

Form No.: N/A.

Title: Reporting of foreign value added taxes and custom duties.

Type of Review: New.

Purpose: Subsections (b) and (g) of section 579 of USAID's FY 2003 appropriations act require USAID to withhold the equivalent of 200 percent of the amount of value added taxes and custom duties assessed by a foreign government or entity, from February 20, 2003 through September 30, 2003, on commodities financed with foreign assistance funds either directly or through grantees, contractors and subcontractors. The amount is to be withheld from FY 2004 funds allocated for a central government of the country or for the West Bank and Gaza Program. The amount to be withheld is reduced by any reimbursements of value added taxes and custom duties.

Subsection (e) of section 579 provides that the Secretary of State shall issue rules, regulations, or policy guidance, as appropriate, to implement the prohibition against taxation of assistance contained in this section.

In order for USAID to implement the statute and withhold the correct amounts, the agency needs to know from its contractors and grantees for each foreign country the amount of value added tax and custom duties paid and any reimbursements received.

We are interested in hearing from contractors and grantees as to the most effective way or ways to do this (e.g., on voucher or other payment documents, separate report), and frequency (every voucher, monthly, quarterly, one-time report) and to the workings in practice of existing reimbursement systems.

Section 579(c) permits USAID to establish a minimum exception from the withholding requirements of subsection (b). We welcome your comments on what would be an appropriate minimum amount consistent with statute, by transaction amount or other basis, taking into account the administrative burden on contractors and grantees to track transactions.

USAID's appropriations act is the Foreign Operations, Export Financing, and Related Programs Appropriations Act, 2003 contained in Division E of H.J. Res. 2, the Consolidated Appropriations Resolution, 2003 (P.L. 108-7), February 20, 2003.

Annual Reporting Burden

Respondents: 4,000.

Total annual responses: 4,000.

Total annual hours requested: 24,000 hours.

Dated: April 1, 2003.
Joanne Paskar,
Chief, Information and Records Division, Office of Administrative Services, Bureau for Management.

[FR Doc. 03-8528 Filed 4-7-03; 8:45 am]

BILLING CODE 6116-01-M